PEACE CORPS

Proposed Information Collection Requests

AGENCY: Peace Corps.

ACTION: Notice of public use form review request to the Office of Management and Budget (0420-0510).

SUMMARY: Pursuant to the Paperwork Reduction Act of 1981 (44 U.S.C., Chapter 35) the Peace Corps has submitted to the Office of Management and Budget a request for approval of information collection, OMB Control Number 0420-0510, the Peace Corps Health Status Review Form (PC-1789) and the Report of Medical Exam Form (PC-1790). The purpose of this notice is to allow for public comments on whether the proposed collection of information is necessary for the proper performance of the functions of the Peace Corps, including whether the information will have practical use; the accuracy of the agency's estimate of the burden of the proposed collections information, including the validity of the methodology and assumptions used; ways to enhance the quality, utility and clarity of the information to be collected; and, ways to minimize the burden of the collection of information on those who are to respond, including through the use of automated collection techniques, when appropriate, and other forms of information technology. A copy of the information collection may be obtained from David O'Neill, Office of Medical Services, Peace Corps, 1111 20th Street, NW, Room 5305, Washington, DC 20526. Mr. O'Neill may be contacted by telephone at 202-692-1577. Comments on these forms should also be addressed to the attention of David O'Neill. You must submit your comments by September 18, 2000.

Information Collection Abstract

Title: Health Status Review From (PC-1789); (Report of Medical Exam Form (PC-1790).

Need For and Use of This Information: This collection of information is necessary to comply with the Peace Corps Act (Section 5(e)) which states that “applicants for enrollment shall receive such health examinations preparatory to their service * * * as the President may deem necessary or appropriate * * * to provide the information needed for clearance, and to serve as a reference for any future Volunteer medical clearance, and to serve as a reference for any future Volunteer disability claim.” The Peace Corps uses this information to determine the physical and mental suitability for service as a Peace Corps Volunteer.

Respondents: Peace Corps Applicants.

Respondent's Obligation to Reply: Mandatory.

Burden on the Public:

Health Status Review Form (PC-1789)

a. Annual reporting burden: 1,625 hours

b. Annual record keeping burden: 0 hours

c. Estimated average burden per response: 15 minutes

d. Frequency of response: one time

e. Estimated number of likely respondents: 6,500

f. Estimated Cost to Respondents: $3.04 per

Burden on the Public:

Report of Medical Exam Form (PC-1789)

a. Annual reporting burden: 3,000 hours

b. Annual record keeping burden: 0 hours

c. Estimated average burden per response: 30 minutes

d. Frequency of response: one time

e. Estimated number of likely respondents: 6,000

f. Estimated Cost to Respondents: $6.08 per

Responses will be returned by postage-paid reply mail.

This notice is issued in Washington, DC, on July 7, 2000.
Doug Greene,
Chief, Information Officer and Associate Director for Management.

[FR Doc. 00-18348 Filed 7-17-00; 4:24 pm]

BILLING CODE 6051-01-M